DEPARTMENT OF THE INTERIOR

Minerals Management Service

Announcement of Meetings for Information-Gathering on Developing an Energy Plan for Conventional and Renewable Resources of the Outer Continental Shelf (OCS)

AGENCY: Office of Secretary, Interior.

ACTION: Notice of public meetings.

SUMMARY: On February 10, 2009, the Secretary of the Interior (Secretary) announced his strategy for developing a comprehensive energy plan for the OCS. One facet of the four-step strategy was to hold meetings along the U.S. coasts and in Alaska to gather information on how to move forward with a comprehensive plan for conventional and renewable energy resources of the OCS.

The Secretary announced a series of four meetings to seek ideas and information from states, stakeholders, and affected communities as well as the regulated industries. See below for information on meeting dates, times, locations, and the agenda.

FOR FURTHER INFORMATION CONTACT: For information please contact Ms. Renee Orr, 5-Year Program Manager, Minerals Management Service (MS-4010), 381 Elden Street, Herndon, Virginia 20170, (703) 787-1215.

SUPPLEMENTARY INFORMATION: On February 10, 2009, the Secretary announced his strategy for developing a comprehensive energy plan for the OCS. The Secretary detailed a four-step strategy to develop a plan to lease conventional—oil and gas—and renewable—wind, wave, and current—resources of the OCS, both under the statutory authority of the OCS Lands Act (43 U.S.C. 1331 et seq.). First, the Secretary extended the comment period of the Draft Proposed OCS Oil and Gas Leasing Program for 2010-2015 (DPP) by 180 days to September 21, 2009. A Request for Comments on the DPP and notice of intent to prepare an Environmental Impact Statement was published in the Federal Register on January 21, 2009 (74 FR 3631). The DPP can be downloaded from the MMS Web site at http://www.mms.gov. Second, the Secretary directed the MMS and USGS, within 45 days, to prepare a report on the information available on OCS energy resources, information regarding sensitive areas and resources in the OCS, and where there are gaps in the information. Third, within 30 days of receipt of the report, the Secretary will convene regional meetings that are the subject of this notice. Fourth, the Secretary will issue final regulations for offshore renewable energy in the near future, as mandated by the Energy Policy Act of 2005 (Pub. L. 109-58).

Public Meetings

The Secretary will convene four public meetings to receive input from stakeholders. The meetings will occur on the following dates at the listed cities. Logistical information will be posted on the MMS home page (http://www.mms.gov) at least 2 weeks before the meetings.

Monday, April 6, 2009—Atlantic City Convention Center; One Convention Boulevard; Atlantic City, New Jersey 08401,

Wednesday, April 8, 2009—Tulane University; 6823 St. Charles Avenue; New Orleans, Louisiana 70118,

Tuesday, April 14, 2009—Dena'ina Civic and Convention Center; 600 W. Seventh Avenue; Anchorage, Alaska 99501.

Thursday, April 16, 2009—University of California, San Francisco, Mission Bay Conference Center; Robertson Auditorium; 1675 Owens Street; San Francisco, California 94158.

General Meeting Purposes

The meetings will be convened in the morning by Secretary of the Interior Kenneth L. Salazar. A panel will present the Report prepared by MMS and USGS on the information available on OCS energy resources, information regarding sensitive areas and resources in the OCS, and where there are gaps in the information. The meetings will provide an opportunity to gather the best ideas for how to accomplish the task of gathering the offshore information still needed, and seek recommendations from all interested parties on how to move forward with a comprehensive energy plan for the OCS. Following the morning session, the Secretary will turn over the meeting to MMS for afternoon and evening sessions for receipt of public comments.

Dated: March 10, 2009.
Walter D. Cruickshank,
Acting Director, Minerals Management Service.

[FR Doc. E9-5798 Filed 3-17-09; 8:45 am]

BILLING CODE 4310-MR-P